DEPARTMENT OF ENERGY

Federal Energy Regulatory Commission

Independent Energy Producers Association, Complainant v. California Independent System Operator Corporation, Respondent; Notice of Technical Conference

October 25, 2005.

The Federal Energy Regulatory Commission Staff is convening a technical conference to discuss the issues raised in the above referenced complaint submitted by the Independent Energy Producers Association (IEP) against the California Independent System Operator Corporation (CAISO). Specifically, the conference will address issues related to the continuation of the CAISO's existing must-offer obligation, details of any alternatives, such as the reliability capacity service tariff proposed by IEP, and related implementation issues.

The technical conference will be held on Tuesday, November 8, 2005 and Wednesday, November 9, 2005, if necessary, from 9:30 a.m. to 5 p.m., EST, at the Federal Energy Regulatory Commission, 888 First Street NE., Washington, DC 20426.

The conference is open for the public to attend, and registration is not required. For more information about the conference, please contact: Olga Kolotushkina at (202) 502-6024 or olga.kolotushkina@ferc.gov.

Magalie R. Salas,
Secretary.

[FR Doc. E5-6032 Filed 11-1-05; 8:45 am]

BILLING CODE 6717-01-P